DEPARTMENT OF COMMERCE

International Trade Administration

[A-570-827]

Certain Cased Pencils From the People's Republic of China: Final Results of the Antidumping Duty Administrative Review

AGENCY: Import Administration, International Trade Administration, Department of Commerce.

SUMMARY: On December 22, 2009, the Department of Commerce (the “Department”) published the preliminary results of the administrative review of the antidumping duty order on certain cased pencils from the People's Republic of China (“PRC”), covering the period December 1, 2007, through November 30, 2008. See Certain Cased Pencils From the People's Republic of China: Preliminary Results of Antidumping Duty Administrative Review, 74 FR 68047 (December 22, 2009) (“Preliminary Results”). We gave the interested parties an opportunity to comment on the Preliminary Results. After reviewing the interested parties' comments, we made changes to our calculations for the final results of the review. The final dumping margin for this review is listed in the “Final Results of the Review” section below.

DATES: Effective Date: July 7, 2010.

FOR FURTHER INFORMATION CONTACT: Alexander Montoro or Joseph Shuler, AD/CVD Operations, Office 1, Import Administration, International Trade Administration, U.S. Department of Commerce, 14th Street and Constitution Avenue, NW., Washington, DC 20230; telephone (202) 482-0238 or (202) 482-1293, respectively.

SUPPLEMENTARY INFORMATION:

Background

Following the Preliminary Results, the Department issued additional supplemental questionnaires to mandatory respondent China First Pencil Co., Ltd. (“China First”) on December 28, 2009 and January 19, 2010. China First responded on January 11, 2010, and January 20, 2010, respectively. The Department also issued an additional supplemental questionnaire to Shanghai Three Star Stationery Industry Co., Ltd. (“Three Star”), the other mandatory respondent, on December 22, 2009 and received a response on December 29, 2009.

China First and Three Star submitted post-preliminary surrogate value comments on January 12, 2010.

On February 11, 2010, Beijing Dixon Stationery Company Ltd. (“Dixon”) submitted a case brief and, on February 19, 2010, China First, Three Star, and Orient International Holding Shanghai Foreign Trade Co., Ltd. (“SFTC”) submitted a joint case brief. None of the parties requested a hearing.

As explained in the memorandum from the Deputy Assistant Secretary for Import Administration, the Department exercised its discretion to toll deadlines for the duration of the closure of the Federal Government from February 5, through February 12, 2010. Thus, all deadlines in this segment of the proceeding were extended by seven days. The revised deadline for the final results of this administrative review was thus extended to April 28, 2010. See Memorandum to the Record from Ronald Lorentzen, DAS for Import Administration, regarding “Tolling of Administrative Deadlines As a Result of the Government Closure During the Recent Snowstorms,” dated February 12, 2010.

On April 21, 2010, the Department published in the Federal Register an extension of the time limit for the completion of the final results of this review until no later than May 28, 2010, 2010, in accordance with section 751(a)(3)(A) of the Tariff Act of 1930, as amended (” the Act”), and 19 CFR 351.213(h)(2). See Certain Cased Pencils From the People's Republic of China: Extension of Time Limit for the Final Results of Antidumping Duty Administrative Review, 75 FR 20815 (April 21, 2010).

On May 27, 2010, the Department published in the Federal Register an extension of the time limit for the completion of the final results of this review until no later than June 28, 2010, 2010, in accordance with section 751(a)(3)(A) of the Act, and 19 CFR 351.213(h)(2). See Certain Cased Pencils From the People's Republic of China: Extension of Time Limit for the Final Results of Antidumping Duty Administrative Review, 75 FR 29720 (May 27, 2010).

On June 9, 2010, the Department notified parties that as a result of the recent decision in Dorbest Limited et. al. v. United States, No. 2009-1257,-1266 (Fed. Cir. May 14, 2010), issued by the United States Court of Appeals for the Federal Circuit (“CAFC”), the Department would be reconsidering its valuation of the labor wage rate in this review. The Department placed export data on the record of the review and gave parties until June 14, 2010 to comment on the narrow issue of the labor wage value in light of the CAFC's decision. On June 11, 2010, the Department placed additional export data on the record, and extended the deadline for parties to comment until June 16, 2010. On June 16, 2010, China First, Three Star and SFTC, submitted comments and additional data regarding the wage rate issue. The Department, on June 21, 2010, placed on the record further data regarding the wage rate issue.

Scope of the Order

Imports covered by the order are shipments of certain cased pencils of any shape or dimension (except as described below) which are writing and/or drawing instruments that feature cores of graphite or other materials, encased in wood and/or man-made materials, whether or not decorated and whether or not tipped (e.g., with erasers, etc.) in any fashion, and either sharpened or unsharpened. The pencils subject to the order are currently classifiable under subheading 9609.10.00 of the Harmonized Tariff Schedule of the United States (“HTSUS”). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: (1) Length: 13.5 or more inches; (2) sheath diameter: Not less than one-and-one quarter inches at any point (before sharpening); and (3) core length: Not more than 15 percent of the length of the pencil.

In addition, pencils with all of the following physical characteristics are excluded from the scope of the order: Novelty jumbo pencils that are octagonal in shape, approximately ten inches long, one inch in diameter before sharpening, and three-and-one eighth inches in circumference, composed of turned wood encasing one-and-one half inches of sharpened lead on one end and a rubber eraser on the other end.

Although the HTSUS subheading is provided for convenience and customs purposes, the written description of the scope of the order is dispositive.

Analysis of Comments Received

All issues raised in the case briefs are addressed in the “Issues and Decision Memorandum for the 2007-2008 Administrative Review of Certain Cased Pencils from the People's Republic of China” (“Issues and Decision Memorandum”), which is dated concurrently with and hereby adopted by this notice. A list of the issues which parties raised and to which we responded in the Issues and Decision Memorandum is attached to this notice as an Appendix. The Issues and Decision Memorandum is a public document which is on file in the Central Records Unit in room 1117 in the main Department building, and is accessible on the web at http://www.ia.ita.doc.gov/frn. The paper copy and electronic version of the memorandum are identical in content.

Changes Since the Preliminary Results

Based on our analysis of the comments received, we made the following changes in calculating dumping margins: (1) We made changes to the surrogate value calculation for China First's and Three Star's labor costs; (2) we changed the surrogate value for slats, using slat prices from “Paper and Stationery” ¹ instead of U.S. prices for basswood lumber from “Hardwood Market Report;” (3) we changed the surrogate value for cores, using core prices from “Paper and Stationery” instead of Indian import data from World Trade Atlas; (4) based on China First's January 12 and 20, 2010 fifth and sixth supplemental questionnaire responses, we adjusted the supplier distances used in calculating freight costs from those used in the Preliminary Results; (5) we made corrections to certain ministerial errors made in the Preliminary Results relating to the paperboard surrogate value. For further details, see “Analysis for the Final Results of Antidumping Duty Administrative Review of Certain Cased Pencils from the People's Republic of China: Shanghai Three Star Stationery Industry Co., Ltd.,” “Analysis for the Final Results of Antidumping Duty Administrative Review of Certain Cased Pencils from the People's Republic of China: China First Pencil Co., Ltd.,” and “2007-2008 Antidumping Duty Administrative Review of Certain Cased Pencils from the People's Republic of China: Factor Valuation for the Final Results” memoranda, all dated May 28, 2010.

¹ “Pencil Industry in India—A Robust Future,” Divya Jha, in “Paper & Stationery Samachar” (Delhi November 2008), an Indian trade journal, attached as Exhibit SV-3A to China First and Three Star's November 20, 2009 Surrogate Value submission (“Paper and Stationery”).

Final Results of the Review

We determine that the following margins exist for the period December 1, 2007, through November 30, 2008:

Manufacturer/exporter | Margin (percent)
China First Pencil Company, Ltd
(which includes subsidiaries Shanghai First Writing Instrument Co., Ltd.; Shanghai Great Wall Pencil Co., Ltd.; and China First Pencil Fang Zheng Co., Ltd.) | 01.00
Shanghai Three Star Stationery Industry Co., Ltd | 06.10
Beijing Dixon Stationery Company Ltd. | 03.55
Orient International Holding Shanghai Foreign Trade Corporation | 03.55
Shandong Rongxin Import and Export Co., Ltd. | 03.55
PRC-wide Entity ² | 114.90
² The PRC-wide entity includes Guangdong Stationery, Tianjin Wood, and Anhui I&E.

As noted in the Preliminary Results, six respondents subject to this review were not selected as mandatory respondents. Of these non-mandatory respondents, Dixon filed its separate rate certification on March 2, 2009, and Shandong Rongxin Import and Export Co., Ltd. (“Rongxin”) and SFTC both filed separate rate certifications on March 4, 2009. In our analysis of the information on the record regarding SFTC, Rongxin, and Dixon, we found no information indicating the existence of government control of each company's export activities. See Dixon's submission of March 2, 2009 and Rongxin's and SFTC's submissions of March 4, 2009. Consequently, we determine that SFTC, Rongxin, and Dixon have met the criteria for the application of a separate rate. The remaining three non-mandatory respondents, Guangdong Provincial Stationery & Sporting Goods Import & Export Corporation (“Guangdong Stationery”), Tianjin Custom Wood Processing Co., Ltd. (“Tianjin Wood”), and Anhui Import & Export Co., Ltd. (“Anhui I&E”), did not submit either a separate rates certification or application. Consequently, Anhui I&E, Guangdong Stationery, and Tianjin Wood have not satisfied the criteria for separate rates for the POR and are considered as being part of the PRC-wide entity.

As stated above, SFTC, Rongxin, and Dixon qualify for a separate rate in this review. Moreover, we did not select SFTC, Rongxin, or Dixon as mandatory respondents in this review. Therefore, SFTC, Rongxin, and Dixon are being assigned dumping margins based on the calculated margins of mandatory respondents, in accordance with Department practice. Accordingly, we have assigned SFTC, Rongxin, and Dixon the simple-average of the dumping margins assigned to the China First and Three Star.

Assessment Rates

The Department has determined, and U.S. Customs and Border Protection (“CBP”) shall assess, antidumping duties on all appropriate entries. The Department intends to issue assessment instructions to CBP 15 days after the date of publication of the final results of review. In accordance with 19 CFR 351.212(b)(1), we calculated exporter/importer-specific (or customer-specific) assessment rates for merchandise subject to this review.

China First and Three Star did not report entered values for their U.S. sales. Therefore, we calculated a per-unit assessment rate for each importer (or customer) by dividing the total dumping margins for reviewed sales to that party by the total sales quantity associated with those transactions. For duty-assessment rates calculated on this basis, we will direct CBP to assess the resulting per-unit rate against the entered quantity of the subject merchandise. To determine whether the duty assessment rates are de minimis, in accordance with the requirement set forth in 19 CFR 351.106(c)(2), we calculated importer (or customer)-specific ad valorem ratios based on the estimated entered value. Where an importer-specific (or customer-specific) rate is de minimis (i.e., less than 0.50 percent), the Department will instruct CBP to liquidate that importer's (or customer's) entries of subject merchandise without regard to antidumping duties.

For companies receiving a separate rate that were not selected for individual review (i.e., Dixon, Rongxin, and SFTC), we calculated an assessment rate based on the simple-average of the cash deposit rates calculated for companies selected for individual review, where those rates were not de minimis or based on adverse facts available, in accordance with Department practice.

With respect to the PRC-wide entity (including Guangdong Stationery, Tianjin Wood, and Anhui I&E), we will instruct CBP to liquidate appropriate entries at PRC-wide rate of 114.90 percent.

Cash Deposit Requirements

The following cash-deposit requirements will apply to all shipments of certain cased pencils from the PRC entered, or withdrawn from warehouse, for consumption on or after the publication date of the final results of this administrative review, as provided by section 751(a)(1) of the Act: (1) The cash deposit rates for the reviewed companies named above will be the rates for those firms established in the final results of this administrative review; (2) for any previously reviewed or investigated PRC or non-PRC exporter, not covered in this review, with a separate rate, the cash deposit rate will be the company-specific rate established in the most recent segment of this proceeding; (3) for all other PRC exporters, the cash deposit rate will be the PRC-wide rate established in the final results of this review which is 114.90 percent; and (4) the cash-deposit rate for any non-PRC exporter of subject merchandise from the PRC will be the rate applicable to the PRC exporter that supplied that exporter. These deposit requirements, when imposed, shall remain in effect until further notice.

Notification to Interested Parties

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a final reminder to parties subject to the administrative protective order (“APO”) of their responsibility concerning the return or destruction of proprietary information disclosed under the APO in accordance with 19 CFR 351.305. Timely written notification of the return or destruction of APO materials or conversion to judicial protective order is hereby requested. Failure to comply with the regulations and the terms of an APO is a sanctionable violation.

This notice of final results is issued and published in accordance with sections 751(a)(1) and 777(i)(1) of the Act.

Dated: June 28, 2010.
Paul Piquado,
Acting Deputy Assistant Secretary for Import Administration.

Appendix—Issues in Decision Memorandum

Comment 1: Appropriate Labor Rate

Comment 2: Surrogate Values

a. Slats

b. Cores

c. Lacquer

Comment 3: Correction of Clerical Errors: Use of Wrong Surrogate Value for Paperboard

Comment 4: Separate Rate Calculation

[FR Doc. 2010-16502 Filed 7-6-10; 8:45 am]

BILLING CODE 3510-DS-P